DEPARTMENT OF ENERGY

Federal Energy Regulatory Commission

[Project No. 1510-018]

Kaukauna Utilities; Notice Soliciting Scoping Comments

Take notice that the following hydroelectric application has been filed with the Commission and is available for public inspection.

a. Type of Application: New Major License.

b. Project No.: P-1510-018.

c. Date filed: March 24, 2017.

d. Applicant: Kaukauna Utilities.

e. Name of Project: Kaukauna City Plant Hydropower Project.

f. Location: On the Fox River in Outagamie County, Wisconsin. There are no federal or tribal lands within the project boundary.

g. Filed Pursuant to: Federal Power Act 16 U.S.C. 791(a)-825(r).

h. Applicant Contact: Mr. Mike Pedersen, Kaukauna Utilities, 777 Island Street, P.O. Box 1777, Kaukauna, WI 54130; (920) 766-5721.

i. FERC Contact: Erin Kimsey, (202) 502-8621 or erin.kimsey@ferc.gov.

j. Deadline for filing scoping comments: August 21, 2017.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1510-018.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Kaukauna City Plant Hydroelectric Project consists of: (1) A 3,527-foot-long, 14-foot-high dam that includes: (a) A 930-foot-long, 14-foot-high rubble masonry retaining wall section (left forebay dam) with a remnant concrete headwall structure and a trash sluice; (b) a 92-foot-long, 47.5-foot-high concrete intake and powerhouse section; (c) a 365-foot-long, 20-foot-high rubble masonry retaining wall section (right forebay dam) with a masonry abutment section and a concrete gravity section with a trash sluice; (d) a 66-foot-long gated spillway section with two 30-foot-wide, 8.8-foot-high spillway gates; and (e) a 2,074-foot-long, 10-foot-high overflow spillway section that includes a 1,305-foot-long concrete ogee section, a 75-foot-long natural rock section, a 125-foot-long concrete gravity section, and a 569-foot-long concrete gravity section; (2) a 19-acre 1.5-mile-long impoundment with a normal maximum elevation of 629.0 above mean seal level; (3) an intake structure with two head gates and two 25-foot-high, 88-foot-long trashracks with 5 inch clear-bar spacing; (4) a 92-foot-long, 47.5-foot-high concrete and brick powerhouse containing two 2.4-megawatt (MW) turbine-generator units for a total capacity of 4.8 MW; (5) a 440-foot-wide, 49-foot-deep, 1,200-foot-long excavated tailrace; (6) two 68-foot-long, 2.4-kilovolt generator leads that connect the turbine-generator units to the regional distribution line; and (7) appurtenant facilities.

Kaukauna Utilities operates the project in a run-of-river mode with an annual average generation of approximately 29,704 megawatt-hours. Kaukauna Utilities is not proposing any new project facilities or changes in project operation.

m. A copy of the application is available for review at the Commission in the Public Reference Room or may be viewed on the Commission's Web site at http://www.ferc.gov using the “eLibrary” link. Enter the docket number excluding the last three digits in the docket number field to address the document. For assistance, contact FERC Online Support. A copy is available for inspection and reproduction at the address in item h above.

n. You may also register online at http://www.ferc.gov/docs-filing/esubscription.asp to be notified via email of new filings and issuances related to this or other pending projects. For assistance, contact FERC Online Support.

o. Scoping Process

The Commission staff intends to prepare a single Environmental Assessment (EA) for the Kaukauna City Plant Hydroelectric Project in accordance with the National Environmental Policy Act. The EA will consider both site-specific and cumulative environmental impacts and reasonable alternatives to the proposed action.

Commission staff does not propose to conduct any on-site scoping meetings at this time. Instead, we are soliciting comments, recommendations, and information, on Scoping Document 1 (SD1) issued on June 20, 2017.

Copies of SD1 outlining the subject areas to be addressed in the EA were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 20, 2017.
Nathaniel J. Davis, Sr.,
Deputy Secretary.

[FR Doc. 2017-13270 Filed 6-23-17; 8:45 am]

BILLING CODE 6717-01-P